NATIONAL AERONAUTICS AND SPACE ADMINISTRATION

[Notice (04-025)]

NASA Advisory Council, Task Force on International Space Station Operational Readiness; Meeting

AGENCY: National Aeronautics and Space Administration (NASA).

ACTION: Notice of meeting.

SUMMARY: The National Aeronautics and Space Administration announces an open meeting of the NASA Advisory Council (NAC), Task Force on International Space Station Operational Readiness (IOR).

DATES: Tuesday, April 6, 2004, 2 p.m.-3 p.m. Eastern Standard Time.

ADDRESSES: NASA Headquarters, 300 E Street, SW., Room 7U22, Washington, DC 20546.

FOR FURTHER INFORMATION CONTACT: Mr. Todd F. McIntyre, Code IH, National Aeronautics and Space Administration, Washington, DC 20546-0001, 202/358-4621.

SUPPLEMENTARY INFORMATION: This meeting will be open to the public up to the seating capacity of the room. Five seats will be reserved for members of the press. The agenda for the meeting is as follows:

—To assess the operational readiness of the International Space Station to support a new crew.

—To assess the American and Russian flight team's preparedness to accomplish the Expedition Nine mission.

—To assess the health and flight readiness of the Expedition Nine crew.

Attendees will be requested to sign a register and to comply with NASA security requirements, including the presentation of a valid picture ID, before receiving an access badge. Foreign nationals attending this meeting will be required to provide the following information: full name; gender; date/place of birth; citizenship; visa/green card information (number, type, expiration date); passport information (number, country, expiration date); employer/affiliation information (name of institution, address, country, phone); title/position of attendee. To expedite admittance, attendees can provide identifying information in advance by contacting Todd F. McIntyre via email at Todd.McIntyre-1@nasa.gov or by telephone at (202) 358-4621.

It is imperative that the meeting be held on these dates to accommodate the scheduling priorities of the key participants.

Michael F. O'Brien,
Assistant Administrator, Office of External Relations, National Aeronautics and Space Administration.

[FR Doc. 04-3762 Filed 2-20-04; 8:45 am]

BILLING CODE 7510-01-P